DEPARTMENT OF COMMERCE

National Oceanic and Atmospheric Administration

RIN 0648-XD227

Gulf of Mexico Fishery Management Council (Council); Public Meeting

AGENCY: National Marine Fisheries Service (NMFS), National Oceanic and Atmospheric Administration (NOAA), Commerce.

ACTION: Notice of a public meeting.

SUMMARY: The Gulf of Mexico Fishery Management Council (Council) will hold a joint meeting of its Coral Scientific and Statistical Committee and Coral Advisory Panel.

DATES: The meeting will be held from 8:30 a.m. until 4:30 p.m. on Thursday, April 24, 2014.

ADDRESSES: The meeting will be held at the Gulf of Mexico Fishery Management Council office, 2203 North Lois Avenue, Suite 1100, Tampa, FL, 33607.

FOR FURTHER INFORMATION CONTACT: Mr. Mark Mueller, GIS Analyst, Gulf of Mexico Fishery Management Council; telephone: (813) 348-1630; fax: (813) 348-1711; email: mark.mueller@gulfcouncil.org.

SUPPLEMENTARY INFORMATION: The items of discussion on the agenda are as follows:

Joint meeting of the Gulf Council's Coral Scientific and Statistical Committee and Coral Advisory Panel Meeting Agenda, Thursday, April 24, 2014, 8:30 a.m. until 4:30 a.m.

1. Election of Coral AP and Coral SSC chairs

2. Adoption of agenda

3. Approval of minutes from last meetings

a. Coral SSC, March 8, 2012

b. Joint Coral AP/Coral SSC, September 2, 2004

4. Council charge and action guide

5. Summary presentation of Workshop on Interrelationships between Corals and Fisheries

a. Review the findings and recommendations of the workshop report

6. Discussion of workshop recommendations and new information

a. Summary of new habitat and ecological data

b. Discussion of Coral Essential Fish Habitat

c. Live rock areas

d. Discussion on Habitat Areas of Particular Concern (HAPCs)

i. Locations

ii. Potential fishing gear interactions

iii. Potential boundary options

e. Recommendations

7. Update on endangered and threatened species listing status

8. Other Business

Adjourn

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

The meeting is physically accessible to people with disabilities. Requests for sign language interpretation or other auxiliary aids should be directed to Kathy Pereira at the Council Office (see ADDRESSES), at least 5 working days prior to the meeting.

Note: The times and sequence specified in this agenda are subject to change.

Authority: 16 U.S.C. 1801 et seq.

Dated: April 2, 2014.
Tracey L. Thompson,
Acting Deputy Director, Office of Sustainable Fisheries, National Marine Fisheries Service.

[FR Doc. 2014-07689 Filed 4-4-14; 8:45 am]

BILLING CODE 3510-22-P